DEPARTMENT OF JUSTICE

Office of Justice Programs

[OJP (OJP) Docket No. 1519]

Hearings of the Review Panel on Prison Rape

AGENCY: Office of Justice Programs, Justice.

ACTION: Notice of hearing.

SUMMARY: The Office of Justice Programs (OJP) announces that the Review Panel on Prison Rape (Panel) will hold hearings in Washington, DC on June 3-4, 2010. The hearing times and location are noted below. The purpose of the hearings is to assist the Bureau of Justice Statistics (BJS) in identifying common characteristics of victims and perpetrators of sexual victimization in juvenile facilities, and the common characteristics of juvenile facilities with the highest and lowest incidence of rape, respectively, based on an anonymous survey by the BJS of youth in a representative sample of juvenile facilities. On January 7, 2010, the BJS issued the report Sexual Victimization in Juvenile Facilities Reported by Youth, 2008-09. The report provides a listing of juvenile facilities grouped according to the prevalence of reported sexual victimization, and formed the basis of the Panel's decision about which facilities would be the subject of testimony.

DATES: The hearing schedule is as follows:

1. Thursday, June 3, 2010, 10 a.m. to 5:45 p.m.: Bureau of Justice Statistics; Fort Bellefontaine, Missouri, Campus—facility with a low prevalence of sexual victimization; Rhode Island Training School—facility with a low prevalence of sexual victimization; and Pendleton, Indiana, Juvenile Correctional Facility—facility with a high prevalence of sexual victimization.

2. Friday, June 4, 2010, 8:30 a.m. to 1 p.m.: Woodland Hills, Tennessee, Youth Development Center—facility with a high prevalence of sexual victimization; and Corsicana, Texas, Residential Treatment Facility—facility with a high prevalence of sexual victimization.

ADDRESSES: The hearings will take place at the Office of Justice Programs Building, Main Conference Room, Third Floor, U.S. Department of Justice, 810 7th Street, NW., Washington, DC 20531.

FOR FURTHER INFORMATION CONTACT: Christopher Zubowicz, Designated Federal Official, OJP, Christopher.Zubowicz@usdoj.gov, (202) 307-0690 [Note: This is not a toll-free number.]

SUPPLEMENTARY INFORMATION: The Panel, which was established pursuant to the Prison Rape Elimination Act of 2003, Public Law 108-79, 117 Stat. 972 (codified as amended at 42 U.S.C. 15601-15609 (2006)), will hold its next hearings to carry out the review functions specified at 42 U.S.C. 15603(b)(3)(A). Testimony from the hearings will assist the Panel in carrying out its statutory obligations. The witness list is subject to amendment; please refer to the Review Panel on Prison Rape Web site at http://www.ojp.usdoj.gov/reviewpanel/reviewpanel.htm for any updates regarding the hearing schedule. Space is limited at the hearing location. Special needs requests should be made to Christopher Zubowicz, Designated Federal Official, OJP, Christopher.Zubowicz@usdoj.gov or (202) 307-0690, at least one week before the hearings.

Michael Alston,
Office of Justice Programs.

[FR Doc. 2010-11369 Filed 5-12-10; 8:45 am]

BILLING CODE 4410-18-P